NATIONAL NANOTECHNOLOGY COORDINATION OFFICE

Nanoscale Science, Engineering and Technology Subcommittee, National Science and Technology Council, Committee on Technology; Priorities for Environmental, Health, and Safety Research Related to Engineered Nanoscale Materials: An Interim Document for Public Comment

August 10, 2007.

ACTION: Notice of public comment period.

SUMMARY: The National Nanotechnology Coordination Office (NNCO), on behalf of the Nanoscale Science, Engineering, and Technology (NSET) Subcommittee of the Committee on Technology, National Science and Technology Council (NSTC), will post a document for public comment on the Web site www.nano.gov. The document, The Prioritization of Environmental, Health, and Safety Research Needs for Engineered Nanoscale Materials: An Interim Document for Public Comment, assigns priority to research needs and areas that were identified in the NSET Subcommittee document Environmental, Health, and Safety Research Needs for Engineered Nanoscale Materials, which was published on September 21, 2006. The comment period will commence on August 16, 2007 and end on September 17, 2007.

Web site Posting: The prioritization document and request for comment will be posted at the Web site of the National Nanotechnology Initiative, www.nano.gov. (The document can be accessed from the indicated home page or by going directly to http://www.nano.gov/html/society/ehs_priorities.) Comments can be submitted to the NSET Subcommittee via the Web site through September 17, 2007. Only written comments are being solicited at this time.

FOR FURTHER INFORMATION CONTACT: For information regarding this Notice, please contact Cate Alexander Brennan, National Nanotechnology Coordination Office. Telephone: (703) 292-4399. E-mail: calexand@nnco.nano.gov.

SUPPLEMENTARY INFORMATION: The Nanoscale Science, Engineering, and Technology (NSET) Subcommittee coordinates planning, budgeting, and program implementation and review to ensure a balanced and comprehensive National Nanotechnology Initiative (NNI). The NSET Subcommittee is composed of representatives from agencies participating in the NNI. The NNCO provides technical and administrative support to the NSET Subcommittee in its work.

On September 21, 2006, the NSET Subcommittee released a document identifying environmental, health, and safety research and information needs related to understanding and management of potential risks of nanomaterials. The document, Environmental, Health, and Safety Research Needs for Engineered Nanoscale Materials, was created by the Nanotechnology Environmental and Health Implications (NEHI) Working Group of the NSET Subcommittee, which is composed of scientists and other agency representatives. The document reflects expert input from industry liaison groups and other research needs-identification efforts. (To read this document, see http://www.nano.gov/NNI_EHS_research_needs.pdf).

On January 4, 2007, a public meeting was held in Arlington, VA, to receive input on research needs related to the environmental, health, and safety aspects of engineered nanoscale materials, and specifically, prioritization criteria for the research identified in the September 21, 2006, document. Input gained from the public at the January 4 meeting was considered in preparing the prioritization document, which is the subject of this call for public comment.

The additional feedback requested through this solicitation by the NSET Subcommittee and the NNI participating agencies is whether parties agree with the identified priorities of the Government or would suggest different or additional priorities. Support for the submitted perspectives is requested. The comment period is an opportunity for public input into the prioritization of research related to environmental, health, and safety aspects of nanomaterials. The prioritization document will be used by the Federal agencies as they set research priorities for Government-funded research programs.

For more information on the National Nanotechnology Initiative and its various working entities, please visit www.nano.gov.

How Can You Participate?

You can participate through written electronic submissions to the NNCO at http://www.nano.gov/html/society/ehs_priorities. Submissions are welcome from all members of the public.

How Will Public Input Be Used?

All comments and recommendations that are submitted will be considered by the NEHI Working Group. Input from multiple stakeholders with various interests will be valuable to the NNI. Through activities such as this solicitation, the NSET Subcommittee and NNI member agencies are making the priority-setting process dynamic, open, and transparent.

E. Clayton Teague,
Director, National Nanotechnology Coordination Office, Nanoscale Science, Engineering, and Technology Subcommittee of the National Science and Technology Council Committee on Technology.

[FR Doc. E7-16077 Filed 8-15-07; 8:45 am]

BILLING CODE 3170-WF-P